SECURITIES AND EXCHANGE COMMISSION

Sunshine Act Meetings

TIME AND DATE: 7:20 p.m. on Thursday, February 20, 2020.

PLACE: The meeting was held at the Commission's headquarters, 100 F Street NE, Washington, DC 20549.

STATUS: This meeting was closed to the public.

MATTERS TO BE CONSIDERED: Commissioners, Counsel to the Commissioners, the Secretary to the Commission, and recording secretaries attended the closed meeting. Certain staff members who have an interest in the matter were also present.

The General Counsel of the Commission, or his designee, has certified that, in his opinion, one or more of the exemptions set forth in 5 U.S.C. 552b(c)(3), (5), (6), (7), (8), 9(B) and (10) and 17 CFR 200.402(a)(3), (a)(5), (a)(6), (a)(7), (a)(8), (a)(9)(ii) and (a)(10), permit consideration of the scheduled matter at the closed meeting. This notice is being made publicly available at the earliest practicable time.

The subject matter of the closed meeting consisted of the following topic: Other matter relating to enforcement proceedings.

CONTACT PERSON FOR MORE INFORMATION: For further information; please contact Vanessa A. Countryman from the Office of the Secretary at (202) 551-5400.

Dated: February 21, 2020.
Vanessa A. Countryman,
Secretary.

[FR Doc. 2020-03922 Filed 2-24-20; 11:15 am]

BILLING CODE 8011-01-P